DEPARTMENT OF THE TREASURY

Internal Revenue Service

Open Meeting of the Taxpayer Advocacy Panel Earned Income Tax Credit Issue Committee

AGENCY: Internal Revenue Service (IRS), Treasury.

ACTION: Notice; correction.

SUMMARY: This document contains a correction to a notice of an Open Meeting of the Taxpayer Advocacy Panel Earned Income Tax Credit Issue Committee, which was published in the Federal Register on April 22, 2003 (68 FR 19881).

FOR FURTHER INFORMATION CONTACT: Marisa Knispel at 1-888-912-1227, or (718) 488-3557.

Need for Correction

As published, this notice of an Open Meeting of the Taxpayer Advocacy Panel Earned Income Tax Credit Issue Committee contains an error that may prove to be misleading and is in need of clarification.

Correction of Publication

Accordingly, the publication of the notice of an open meeting of the taxpayer advocacy panel earned income tax credit issue committee which is the subject of FR Doc 03-9944.

1. On page 19881, column 3, under the paragraph heading “Supplementary Information”, line 7, the language “EST to 3 p.m. EST via a telephone”, is corrected to read “EDT to 3 p.m. EDT via a telephone”.

Cynthia E. Grigsby,
Chief, Regulations Unit, Associate Chief Counsel (Procedure and Administration).

[FR Doc. 03-12777 Filed 5-19-03; 8:56 am]

BILLING CODE 4830-01-P